DEPARTMENT OF STATE

[Public Notice: 9754]

Notice of Intent To Prepare an Environmental Assessment for the Proposed Borrego Pipeline in Webb County, Texas

AGENCY: Department of State.

ACTION: Notice of intent.

SUMMARY: Borrego Crossing Pipeline, LLC (Borrego) has applied to the U.S. Department of State (Department) for a Presidential Permit authorizing the construction, connection, operation, and maintenance of facilities at the border of the United States for the export of refined petroleum products from the United States to markets in northern Mexico (Borrego Pipeline). The Department receives and considers applications for Presidential Permits for such energy-related pipelines pursuant to authority delegated to it by the President under E.O. 13337 of April 30, 2004 (69 FR 25299), as amended. To issue a Permit, the Department must find that issuance would serve the national interest.

With respect to the application submitted by Borrego, the Department is issuing this Notice of Intent (NOI) to inform the public that it will prepare an Environmental Assessment (EA) consistent with the National Environmental Policy Act of 1969 (NEPA) (as implemented by the Council on Environmental Quality Regulations found at 40 CFR parts 1500-1508) to evaluate the potential impacts of the Borrego Pipeline to inform the national interest determination. This NOI informs the public about the proposed project and solicits participation and comments from interested federal, tribal, state, and local government entities as well as the public to help inform the scope and content of the EA.

DATES: The Department invites the public, governmental agencies, tribal governments, and all other interested parties to comment on the scope of the EA. All such comments should be provided within the 30-day public scoping period, which starts with the publication of this Notice in the Federal Register and will continue until November 14, 2016. The Department will give equal weight to written, electronic, and oral comments, and the Department will consider all comments received or postmarked by the closing date. The Department will consider comments received or postmarked after that date to the extent practicable.

All comments received during the scoping period may be made public, no matter how initially submitted. Comments are not private and will not be edited to remove identifying or contact information. Commenters are cautioned against including any information that they would not want publicly disclosed. Any party soliciting or aggregating comments from other persons is further requested to direct those persons not to include any identifying or contact information, or information they would not want publicly disclosed, in their comments.

ADDRESSES: Commenters can submit remarks electronically at www.regulations.gov by entering the title of this Notice into the search field and following the prompts. The Department will accept comments by mail at the following address: Borrego Project Manager, Office of Environmental Quality and Transboundary Issues (OES/EQT), Room 2726, U.S. Department of State, 2201 C Street NW., Washington, DC 20520. All comments from agencies or organizations should indicate a contact person for the agency or organization.

SUPPLEMENTARY INFORMATION:

Project Description

Borrego submitted an application on August 12, 2016 for a new Presidential Permit under E.O. 13337 to authorize the construction, connection, operation, and maintenance of pipeline facilities at the United States-Mexico border for the export of refined petroleum products, including but not limited to gasoline, ultra-low sulfur diesel (ULSD), and jet fuel. The requested Presidential Permit, if issued, would authorize an approximately 0.25-mile segment of 20-inch pipeline from the first check meter station near 27°38′42.28″ N., 99°36′13.62″ W. to the United States-Mexico border at a location approximately 9.2 miles northwest of Laredo, Texas. However, consistent with NEPA, the Department's EA will analyze environmental effects associated with the entire U.S. portion of the proposed pipeline. In the United States, the Borrego Pipeline would consist of approximately 13 miles of new pipeline (0.25 miles of 20-inch pipeline at the border segment and 12.9 miles of 16-inch pipeline from a terminal in Laredo, Texas to the border segment). The Borrego Pipeline would have the design capacity to transport approximately 150,000 barrels per day (bpd) of refined petroleum products.

Environmental Effects

The environmental review will describe the potential environmental impacts of the proposed action; any adverse environmental impacts that cannot be avoided should the proposal be implemented; the reasonable alternatives to the proposed action and a no action alternative; comparison between short-term and long-term impacts on the environment; any irreversible and irretrievable commitments of natural, physical or other resources that would occur if the proposed action is implemented; and any proposed mitigation measures if needed. The analysis will focus on air quality, biological resources, cultural resources, geology and soils, greenhouse gas emissions, hazards and hazardous materials, potential accidents and spills, hydrology and water quality, noise, socioeconomics, environmental justice, transportation, and any other relevant topics that arise during scoping.

Scoping Period

The Department invites the public, governmental agencies, tribal governments and all other interested parties to comment on the scope of the EA. All such comments should be provided in writing, within thirty (30) days of the publication of this notice, at the ADDRESSES listed above.

FOR FURTHER INFORMATION CONTACT: For information contact the Borrego Project Manager at the address listed in ADDRESSES, by email at BorregoReview@state.gov or by fax at (202) 647-5947. Information on the proposed project details, Presidential Permit application, status of the environmental review, etc. may be found at: http://www.state.gov/e/enr/applicant/applicants/borregopipeline/index.htm.

Dated: October 3, 2016.
Barton Putney,
Director, Office of Environmental Quality and Transboundary Issues, Department of State.

[FR Doc. 2016-24630 Filed 10-11-16; 8:45 am]

BILLING CODE 4710-09-P